SECURITIES AND EXCHANGE COMMISSION

17 CFR Parts 230 and 232

[Release Nos. 33-10771A; 34-88606A; IC-33836A; File No. S7-03-19]

RIN 3235-AM31

Securities Offering Reform for Closed-End Investment Companies; Correction

AGENCY: Securities and Exchange Commission.

ACTION: Final rule; correction.

SUMMARY: This document makes technical corrections to amendments to rules that modify the registration, communications, and offering processes for business development companies (“BDCs”) and other closed-end investment companies adopted in Release No. 33-10771 (April 8, 2020) (“Adopting Release”), which was published in the Federal Register on June 1, 2020.

DATES: Effective August 1, 2020

FOR FURTHER INFORMATION CONTACT: Amy Miller, Senior Counsel, Investment Company Regulation Office, Division of Investment Management, Securities and Exchange Commission, 100 F Street NE, Washington, DC 20549.

SUPPLEMENTARY INFORMATION: We are making technical amendments to correct §§ 230.497 and 232.405. Specifically, this document amends Instructions 25 and 28 published in the Adopting Release. Instruction 25.a is amended to correct a citation to Form N-2; and Instruction 25.b is removed, with subsequent instructions renumbered accordingly. Instruction 28.b is removed, with subsequent instructions renumbered accordingly; newly-designated Instruction b is amended to correct an unneeded direction to remove a heading; and newly-redesignated Instruction 28.d is amended to redesignate Note 2 to rule 405 of Regulation S-T as Note 1 to rule 405 of Regulation S-T.

In FR doc. 2020-07790, which published in the Federal Register on Monday, June 1, 2020, at 85 FR 33290, the following corrections are made:

§ 230.497 [Corrected]

1. On page 33356, in the third column, under “§ 230.497” in Instruction 25.a, “Remove from paragraphs (c) and (e) the text “Form N-2 (§§ 239.14 and 274.11a-1 of this chapter)” is corrected to read “Remove from paragraphs (c) and (e) the text “§§ 239.14 and 274.11a-1 of this chapter (Form N-2)”.

2. On page 33356, in the third column, under “§ 230.497” remove Instruction 25.b.

3. On page 33356, in the third column, under “§ 230.497” redesignate Instructions 25.c and d as Instructions 25.b and c, respectively.

§ 232.405 [Corrected]

4. On page 33357, in the first column, under “§ 232.405” remove Instruction 28.b.

5. On page 33357, in the first and second columns, under “§ 232.405” redesignate Instructions 28.c, d, and e, as Instructions 28.b, c, and d, respectively.

6. On page 33357, in the first column, under “§ 232.405” in newly-redesignated Instruction 28.b, “Removing the heading and revising the introductory text of paragraph (b)(1)” is corrected to read “Revising the introductory text of paragraph (b)(1)”.

7. On page 33357, in the second column, under “§ 232.405” in newly-redesignated Instruction 28.d, “Redesignating the note to § 232.405 as note 2 to § 232.405 and revising the last sentence of newly redesignated note 2 to § 232.405” is corrected to read “Redesignating note 2 to § 232.405 as Note 1 to § 232.405 and revising the last sentence of newly redesignated Note 1 to § 232.405 ”.

8. On page 33357, in the second column, in “§ 232.405 Interactive Data File Submissions,” the introductory text “note 2 to this section” is corrected to read “Note 1 to this section”.

9. On page 33358, in the second column, in “§ 232.405 Interactive Data File Submissions,” “Note 2 to § 232.405” is corrected to read “Note 1 to § 232.405”.

Dated: July 9, 2020.
Vanessa A. Countryman,
Secretary.

[FR Doc. 2020-15170 Filed 7-24-20; 8:45 am]

BILLING CODE 8011-01-P